FEDERAL COMMUNICATIONS COMMISSION

Notice of Public Information Collection(s) Being Submitted for Review to the Office of Management and Budget

October 31, 2006.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before December 11, 2006. If you anticipate that you will be submitting PRA comments, but find it difficult to do so within the period of time allowed by this notice, you should advise the FCC contact listed below as soon as possible.

ADDRESSES: Direct all PRA comments to Allison E. Zaleski, Office of Management and Budget, Room 10236 NEOB, Washington, DC 20503, (202) 395-6466, or via fax at 202-395-5167 or via Internet at Allison_E._Zaleski@eop.omb.gov and to Judith-B.Herman@fcc.gov, Federal Communications Commission, Room 1-B441, 445 12th Street, SW., DC 20554 or an e-mail to PRA@fcc.gov. If you would like to obtain or view a copy of this information collection, you may do so by visiting the FCC PRA Web page at: http://www.fcc.gov/omd/pra.

FOR FURTHER INFORMATION CONTACT: For additional information or copies of the information collection(s), contact Judith B. Herman at 202-418-0214 or via the Internet at Judith-B.Herman@fcc.gov.

SUPPLEMENTARY INFORMATION: OMB Control Number: 3060-0799.

Title: FCC Ownership Disclosure Information for the Wireless Telecommunications Services.

Form No.: FCC Form 602.

Type of Review: Extension of a currently approved collection.

Respondents: Business or other for-profit, not-for-profit institutions; and state, local or tribal governments.

Number of Respondents: 500 respondents; 5,065 responses.

Estimated Time Per Response: .50-1.50 hours.

Frequency of Response: On occasion reporting requirement and third party disclosure requirement.

Total Annual Burden: 5,065 hours.

Total Annual Cost: $478,200.

Privacy Act Impact Assessment: N/A.

Needs and Uses: The Commission will submit this information collection to OMB as an extension (no change in reporting or third party requirements) in order to obtain the full three-year clearance from them. There is no change to the estimated average burden, costs, or the number of respondents.

The purpose of the FCC Form 602 is to obtain the identity of the filer and to elicit information required by 47 CFR 1.2112 of the Commission's rules regarding: (1) persons or entities holding a 10 percent or greater direct or indirect ownership interest or any general partners in a general partnership holding a direct or indirect ownership interest in the applicant (“Disclosable Interest Holders”); and (2) all FCC-regulated entities in which the filer or any of its Disclosable Interest Holders owns a 10 percent or greater interest. The data collected on the FCC Form 602 includes the FCC Registration Number (FRN) which serves as a “common link” for all filings an entity has with the Commission. The Debt Collection Improvement Act of 1996 requires that entities filing with the Commission use a FRN. Finally, the FCC Form 602 was designed for, and must be filed electronically by, all licensees that hold licenses in auctionable services. Without such information, the Commission could not determine whether to issue licenses to applicants that provide telecommunications services to the public and fulfill its statutory responsibilities in accordance with the Communications Act of 1934, as amended.

OMB Control Number: 3060-1092.

Title: Interim Procedures for Filing Applications Seeking Approval for Designated Entity Reportable Eligibility Events and Annual Reports.

Form Nos.: FCC Form 609-T and 611-T.

Type of Review: Extension of a currently approved collection.

Respondents: Business or other for-profit, not-for-profit institutions; and state, local or tribal governments.

Number of Respondents: 1,000 respondents; 2,500 responses.

Estimated Time Per Response: .50-6 hours.

Frequency of Response: On occasion and annual reporting requirements.

Total Annual Burden: 6,625 hours.

Total Annual Cost: $1,358,750.

Privacy Act Impact Assessment: N/A.

Needs and Uses: The Commission will submit this information collection to OMB as an extension (no change in reporting requirements) in order to obtain the full three-year clearance from them. There is no change to the estimated average burden, costs, or the number of respondents.

FCC Form 609-T is used by Designated Entities (DEs) to request prior Commission approval pursuant to Section 1.2114 of the Commission's rules for any reportable eligibility event. The data collected on the form is used by the Commission to determine whether the public interest would be served by the approval of the reportable eligibility event.

FCC Form 611-T is used by DE licensees to file an annual report, pursuant to Section 1.2110(n) of the Commission's rules, related to eligibility for designated entity benefits.

The Commission adopted these information collection requests to ensure that licensees receiving designated entity benefits remain, on an on-going basis, in compliance with the designated entity rules and policies—that the entity remains eligible for designated entity benefits for a prescribed period of time (which may vary depending upon the particular circumstances of a licensee or service.) Specifically, the Commission provides benefits to entities eligible to be designated entities pursuant to Congressional directive, as reflected in Section 309(j) of the Communications Act of 1934, as amended. Thus, the Commission has indicated that it acted to ensure that designated entities are given the opportunity to participate in the provision of spectrum-based services, while at the same time, ensuring that entities ineligible for designated entity incentives cannot circumvent the Commission's rules by obtaining those benefits indirectly, thought their relationships with entities that in fact are eligible for such benefits.

OMB Control Number: 3060-0292.

Title: Part 69—Access Charges (Section 69.605, Reporting and Distribution of Pool Access Revenues).

Form No.: N/A.

Type of Review: Revision of a currently approved collection.

Respondents: Business or other for-profit.

Number of Respondents: 1,250 respondents; 15,000 responses.

Estimated Time Per Response: .75 hours (45 minutes).

Frequency of Response: On occasion, annual and monthly reporting requirements and third party disclosure requirement.

Total Annual Burden: 11,250 hours.

Total Annual Cost: N/A.

Privacy Act Impact Assessment: N/A.

Needs and Uses: The Commission will submit this information collection to OMB as a revision in order to obtain the full three-year clearance from them.

Part 9 of the Commission's rules and regulations establishes the rules for access charges for interstate or foreign access provided by telephone companies on or after January 1, 1984. Part 69 essentially consists of rules or the procedures for the computation of access charges which are not information collections as defined by 5 CFR part 1320 (OMB's rules). Any reporting or disclosure occurs in connection with particular tariff filings and other reporting requirements with the FCC, National Exchange Carriers Association (NECA), or state commissions or with records maintained in accordance with the Uniform System of Accounts (USOA). OMB approval of tariff filings and USOA records required by the FCC is contained under OMB control numbers 3060-0298, 3060-0370 and 3060-0400.

The Commission has revised this collection of information because many of the rule sections that were subject to OMB review under the Paperwork Reduction Act (PRA) in Part 69 are no longer in effect. Specifically, only section 69.605 remains under this OMB control number.

The information is used by the Commission to compute charges in tariffs for access service (or origination and termination) and to compute revenue pool distributions. Neither process could be implemented without this information.

OMB Control Number: 3060-0952.

Title: Proposed Demographic Information and Notifications, Second FNPRM in CC Docket No. 98-147 and Fifth NPRM in CC Docket No. 96-98.

Form No.: N/A.

Type of Review: Extension of a currently approved collection.

Respondents: Business or other for-profit.

Number of Respondents: 1,400.

Estimated Time Per Response: 2 hours for 2 filings per year.

Frequency of Response: On occasion reporting requirement and third party disclosure requirement.

Total Annual Burden: 5,600 hours.

Total Annual Cost: N/A.

Privacy Act Impact Assessment: N/A.

Needs and Uses: The Commission will submit this information collection to OMB as an extension (no change in reporting or third party requirements) in order to obtain the full three-year clearance from them. There is no change to the estimated average burden or the number of respondents.

In a Second Further Notice of Proposed Rulemaking (FNPRM) in FCC 00-297, the Commission invited comments on, among other things, whether physical collocation in remote terminals presents technical or security concerns and, if so, whether these concerns warranted modification of its collocation rules. The Commission asked whether incumbent Local Exchange Carriers (LECs) should be required to provide requesting carriers with demographic and other information regarding particular remote terminals similar to the information available regarding incumbent LEC central offices. Requesting carriers use demographic and other data obtained from incumbent LECs to determine whether they wish to collocate at particular remote terminals. This proposed collection of information will be used by the Commission, state commissions, and competitive carriers to facilitate the deployment of advanced services and other telecommunications services in implementation of section 251(c)(6) of the Communications Act of 1934, as amended.

Federal Communications Commission.
Marlene H. Dortch,
Secretary.

[FR Doc. E6-19046 Filed 11-8-06; 8:45 am]

BILLING CODE 6712-01-P